SMALL BUSINESS ADMINISTRATION

[Disaster Declaration #12548 and #12549]

Mississippi Disaster Number MS-00045

AGENCY: U.S. Small Business Administration.

ACTION: Amendment 1.

SUMMARY: This is an amendment of the Presidential declaration of a major disaster for the State of Mississippi (FEMA—1972—DR), dated 04/29/2011.

Incident: Severe Storms, Tornadoes, Straight-line Winds, and Associated Flooding.

Incident Period: 04/15/2011 through 04/28/2011.

Effective Date: 05/01/2011.

Physical Loan Application Deadline Date: 06/28/2011.

EIDL Loan Application Deadline Date: 01/30/2012.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416

SUPPLEMENTARY INFORMATION: The notice of the Presidential disaster declaration for the State of Mississippi, dated 04/29/2011 is hereby amended to include the following areas as adversely affected by the disaster:

Primary Counties: (Physical Damage and Economic Injury Loans):

Chickasaw, Choctaw, Neshoba, Webster.

Contiguous Counties: (Economic Injury Loans Only):

Mississippi, Attala, Grenada, Leake, Montgomery, Oktibbeha.

All other information in the original declaration remains unchanged.

(Catalog of Federal Domestic Assistance Numbers 59002 and 59008)

James E. Rivera,
Associate Administrator for Disaster Assistance.

[FR Doc. 2011-11434 Filed 5-9-11; 8:45 am]

BILLING CODE 8025-01-P